DEPARTMENT OF THE INTERIOR

National Park Service

[NPS-WASO-NAGPRA-NPS0037711; PPWOCRADN0-PCU00RP14.R50000]

Notice of Inventory Completion: Center for Big Bend Studies, Sul Ross State University, Alpine, TX

AGENCY: National Park Service, Interior.

ACTION: Notice.

SUMMARY: In accordance with the Native American Graves Protection and Repatriation Act (NAGPRA), the Center for Big Bend Studies, Sul Ross State University has completed an inventory of human remains and has determined that there is a known lineal descendant connected to the human remains in this notice.

DATES: Repatriation of the human remains in this notice may occur on or after May 13, 2024.

ADDRESSES: Bryon Schroeder, Center for Big Bend Studies/Sul Ross State University, Street Address, Alpine, TX 79832, telephone (432) 837-8339, email bryon.schroeder@sulross.edu.

SUPPLEMENTARY INFORMATION: This notice is published as part of the National Park Service's administrative responsibilities under NAGPRA. The determinations in this notice are the sole responsibility of the Center for Big Bend Studies, Sul Ross State University, and additional information on the determinations in this notice, including the results of consultation, can be found in the inventory or related records. The National Park Service is not responsible for the determinations in this notice.

Abstract of Information Available

Based on the information available, human remains representing, at least, five individuals have been reasonably identified. No associated funerary objects are present. These ancestral remains were recovered from the Millington Site (41PS14) in Presidio, Texas. They were salvaged in 2006 during a construction project by the city of Presidio from a backhoe trench initiated by the Presidio Sewer Line project. Geographical affiliation is consistent with the historically documented territory of the Mescalaro Apache but biological genetic data from nearby sites places the Lineal Descendants of La Junta de los Rios, in particular lineal descendant Xoxi Nayapiltzin, near the site at least 900 years ago contemporaneous with the known age of these ancestral remains. No Preservative was applied to any of the ancestral remains.

Lineal Descendant

Based on the information available and the results of consultation, a lineal descendant is connected to the human remains described in this notice.

Determinations

The Center for Big Bend Studies, Sul Ross State University has determined that:

• The human remains described in this notice represent the physical remains of five individuals of Native American ancestry.

• Xoxi Nayapiltzin is connected to the human remains described in this notice.

Requests for Repatriation

Written requests for repatriation of the human remains in this notice must be sent to the authorized representative identified in this notice under ADDRESSES. Requests for repatriation may be submitted by:

1. The known lineal descendant connected to the human remains and associated funerary objects.

2. Any other lineal descendant not identified who shows, by a preponderance of the evidence, that the requestor is a lineal descendant.

Repatriation of the human remains in this notice to a requestor may occur on or after May 13, 2024. If competing requests for repatriation are received, the Center for Big Bend Studies, Sul Ross State University must determine the most appropriate requestor prior to repatriation. Requests for joint repatriation of the human remains are considered a single request and not competing requests. The Center for Big Bend Studies, Sul Ross State University is responsible for sending a copy of this notice to the lineal descendant and any other consulting parties.

Authority: Native American Graves Protection and Repatriation Act, 25 U.S.C. 3003, and the implementing regulations, 43 CFR 10.10.

Dated: April 2, 2024.
Melanie O'Brien,
Manager, National NAGPRA Program.

[FR Doc. 2024-07710 Filed 4-10-24; 8:45 am]

BILLING CODE 4312-52-P